DEPARTMENT OF COMMERCE

National Institute of Standards and Technology

[Docket No. 150515451-5451-01]

RIN 0693-XC049

Request for Information Regarding Online Platforms To Promote Federal Science and Technology Facilities, Products, and Services

AGENCY: National Institute of Standards and Technology, Commerce.

ACTION: Notice; Request for Information (RFI)

SUMMARY: The National Institute of Standards and Technology (NIST) and other member laboratories of the Federal Laboratory Consortium for Technology Transfer (FLC) offer a variety of specialized scientific and technical facilities, products, and services to the public, including access to instrumentation, reference materials, software, and calibrations. Access to such services is provided in a variety of ways, and may require the payment of fees or other costs and/or an application or agreement. NIST and other members of the FLC request information from the public regarding recommendations for online platforms that can broaden awareness and make it easier for the public to search for, locate, learn about, and obtain access to these facilities, products, and services. The information received in response to this RFI will be provided by NIST to various interagency groups for consideration and used to publicize various federal facilities and resources.

DATES: Comments must be received by 5:00 p.m. Eastern time on June 29, 2015. Written comments in response to the RFI should be submitted according to the instructions in the SUPPLEMENTARY INFORMATION section below. Submissions received after that date will be considered to the extent practicable.

ADDRESSES: Electronic comments regarding the RFI should be addressed to Dr. Courtney Silverthorn by email to courtney.silverthorn@nist.gov.

FOR FURTHER INFORMATION CONTACT: Dr. Courtney Silverthorn, Senior Interagency Policy Specialist, National Institute of Standards and Technology, Technology Partnerships Office, 100 Bureau Drive MS 2200, Gaithersburg, MD 20899, 301-975-4189, or by email to courtney.silverthorn@nist.gov.

SUPPLEMENTARY INFORMATION: Private sector online platforms could improve the availability of scientific and technical resources and services in a number of ways. For example, a private sector online platform might maintain a database of such resources and provide a simple way for a member of the public to initiate access. NIST and other member laboratories will evaluate submitted platforms for technology and research capability matches and may contact appropriate platforms directly to arrange for possible publication of specific facilities, products, and/or services. NIST and other members of the FLC are especially interested in recommendations that can broaden awareness and improve access at no cost to the government.

As part of the Open Data initiative, NIST and other members of the FLC can make data about the resources of interest available to the public. For examples, see:

https://flcbusiness.federallabs.org/FLCBiz/app/search-equipment-and-facilities

http://www.nist.gov/user-facilities.cfm

http://www.nist.gov/calibrations/

http://www.nist.gov/srm/index.cfm

http://www.nist.gov/srd/index.cfm

To respond to this RFI, please submit written comments by email to Dr. Courtney Silverthorn at courtney.silverthorn@nist.gov in any of the following formats: ASCII; Word; RTF; or PDF. Please include your name, organization's name (if any), and cite “Online Technology Platforms RFI” in the subject line of all correspondence.

NIST is specifically interested in receiving input pertaining to the following questions:

(1) What is the web address of the online platform you are recommending? Is the platform specific to a particular research sector (i.e. molecular biology, physical sciences, calibration services, etc.) or is it a general platform?

(2) What is the cost model of the online platform you are recommending? Is there a listing fee, a percentage of the service fee retained, or is it a no-cost information listing only?

Authority: 15 U.S.C. 3710(g).

Richard Cavanagh,
Acting Associate Director for Laboratory Programs.

[FR Doc. 2015-12839 Filed 5-27-15; 8:45 am]

BILLING CODE 3510-13-P